DEPARTMENT OF HOMELAND SECURITY

Coast Guard

33 CFR Part 117

[Docket No. USCG-2014-0645]

Drawbridge Operation Regulation; Willamette River, Portland, OR

AGENCY: Coast Guard, DHS.

ACTION: Notice of temporary deviation from regulations.

SUMMARY: The Coast Guard has issued a temporary deviation from the operating schedule that governs The Broadway Bridge, across the Willamette River, mile 11.7, at Portland, OR. This deviation is necessary to accommodate the 2014 Pints to Pasta foot race event. This deviation allows the bridge to remain in the closed position to allow safe movement of event participants.

DATES: This deviation is effective from 7:30 a.m. on September 7, 2014 to 10:30 a.m. on September 7, 2014.

ADDRESSES: The docket for this deviation, [USCG-2014-0645] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone 206-220-7234 email Steven.M.Fischer3@uscg.mil. If you have questions on viewing the docket, call Cheryl Collins, Program Manager, Docket Operations, telephone 202-366-9826.

SUPPLEMENTARY INFORMATION: Multnomah County has requested a temporary deviation from the operating schedule for the Broadway Bridge, mile 11.7, crossing the Willamette River at Portland, OR. The requested deviation is to accommodate the annual Pints to Pasta event. To facilitate this event, the draw of the bridge will be maintained in the closed-to-navigation positions as follows: The Broadway Bridge, at mile 11.7, crosses the Willamette River and provides 90 feet of vertical clearance above Columbia River Datum 0.0 need not open for vessel traffic from 7:30 a.m. on September 7, 2014, to 10:30 p.m. on September 7, 2014. Vessels which do not require a bridge opening may continue to transit beneath this bridge during the closure period. The normal operating conditions for this bridge operates in accordance with 33 CFR 117.897 which allows for the bridge to remain closed between 7 a.m. and 9 a.m. and 4 p.m. and 6 p.m. Monday through Friday. This deviation period is from 7:30 a.m. on September 7, 2014 to 10:30 a.m. September 7, 2014. This deviation allows the Broadway Bridge, at mile 11.7 across the Willamette River, to remain in the closed position and need not open for maritime traffic from 7:30 a.m. through 10:30 a.m. on September 7, 2014. The bridge shall operate in accordance to 33 CFR 117.897 at all other times. Waterway usage on this stretch of the Willamette River includes vessels ranging from commercial tug and barge to small pleasure craft. Vessels able to pass through the bridge in the closed positions may do so at any time. The bridge will be able to open for emergencies and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: July 24, 2014.
Steven M. Fischer,
Bridge Administrator.

[FR Doc. 2014-18370 Filed 8-4-14; 8:45 am]

BILLING CODE 9110-04-P